COMMODITY FUTURES TRADING COMMISSION

Federal Register Notice Requesting Nominations for the Subcommittee on Data Standardization Under the Technology Advisory Committee

AGENCY: Commodity Futures Trading Commission.

ACTION: Notice requesting nominations for the Subcommittee on Data Standardization Under the Technology Advisory Committee.

SUMMARY: The Commodity Futures Trading Commission (CFTC or Commission) is calling for nominations to the Subcommittee on Data Standardization (Subcommittee) under the auspices of the Technology Advisory Committee. The Subcommittee on Data Standardization was established to develop recommendations for a standardized reference data depository representing the universe of legal and financial terms utilized in describing, defining, and valuing the various derivatives and other financial instruments which are presently and in the future may be traded on and off of regulated exchanges. The Subcommittee will report to the full Technology Advisory Committee. The creation of standardized reference points and data terms is anticipated to aid in the development of universal entity, product, and/or instrument identifiers and provide greater consistency in the collection, reporting, and management of individual transactions, underlying legal documents (including master agreements and credit support agreements), and risk exposures. Nominations are sought for highly qualified representatives from government agencies, industry, exchanges, academia, information technology, information systems, and groups representing interests or organizations involved with the development, design and use of standardized data and/or affected by the standardization of data. Individuals seeking to be nominated to the Subcommittee on Data Standardization should possess demonstrable expertise in a related field or represent a stakeholder of interest in the issue. Prospective nominees should be open to participating in an open public-private forum.

DATES: The final deadline for nominations is 14 days from the publication date of this notice.

ADDRESSES: Nominations should be sent to Andrei Kirilenko, Chief Economist, Office of the Chief Economist, U.S. Commodity Futures Trading Commission, 1155 21st Street, NW., Washington, DC 20581.

FOR FURTHER INFORMATION CONTACT: Andrei Kirilenko, (202) 418-5587; fax: (202) 418-5660; e-mail: akirilenko@cftc.gov.

SUPPLEMENTARY INFORMATION: The Subcommittee on Data Standardization will be ongoing and will conduct at least three sessions in the calendar year 2011. The Subcommittee may prepare a series of reports, findings, and/or recommendations to the Technology Advisory Committee. The Technology Advisory Committee will consider submitted materials and determine whether and what recommendations to make to the Commission. Subcommittee participants will not be compensated or reimbursed for travel and per diem expenses. Each nomination submission should include the proposed member's name and organizational affiliation; a brief description of the nominee's qualifications and interest in serving on the Subcommittee on Data Standardization, the organization, group, academic body, company, or government agency the nominee would represent on the subcommittee; and the curriculum vitae or resume of the nominee. Self-nominations are acceptable. The following contact information should accompany each submission: The nominee's name, address, phone number, fax number, and e-mail address if available. There are no capital costs and no operating or maintenance costs associated with this notice.

Dated: April 16, 2011.
David A. Stawick,
Secretary of the Commission.

[FR Doc. 2011-10556 Filed 4-29-11; 8:45 am]

BILLING CODE P